DEPARTMENT OF TRANSPORTATION

Federal Railroad Administration

49 CFR Parts 222 and 229

[Docket Nos. FRA-1999-6439, Notice No. 2 and FRA-1999-6440]

RIN 2130-AA71

Use of Locomotive Horns at Highway-Rail Grade Crossings

AGENCY: Federal Railroad Administration (FRA), Department of Transportation (DOT).

ACTION: Notice of public hearings.

SUMMARY: On January 13, 2000, FRA published a Notice of Proposed Rulemaking (NPRM) on the Use of Locomotive Horns at Highway-Rail Grade Crossings (Docket No. FRA-1999-6439). On the same date FRA released a Draft Environmental Assessment (DEIS) (Docket No. FRA-1999-6440) pertaining to the proposals contained in the NPRM. In both documents, FRA stated that public hearings would be held in a number of locations throughout the country. This notice provides information regarding combined hearings on the NPRM and DEIS to be held in: Washington, DC; Los Angeles, California; Pendleton, Oregon; Ft. Lauderdale, Florida; and Salem, Massachusetts. Further notices will be published and posted on FRA's web site (http://fra.dot.gov) regarding hearings to be held in the remaining locations listed in the NPRM: Berea, Ohio; South Bend, Indiana; and Chicago, Illinois.

DATES: Public Hearings: Public hearings will be held in:

1. Washington, DC on March 6, 2000;

2. Los Angeles area, California on March 15, 2000;

3. Pendleton, Oregon on March 17, 2000;

4. Ft. Lauderdale, Florida on March 28, 2000; and

5. Salem, Massachusetts on April 3, 2000.

All hearings will begin at 9:00 am. Please see Supplementary Information for further information concerning participation in the public hearings.

ADDRESSES: Public Hearings: Public hearings will be held at the following locations:

1. Washington DC: Federal Aviation Administration Auditorium, Third Floor, Federal Office Building 10A, 800 Independence Avenue, SW, Washington, DC 20591.

2. Los Angeles area: Doubletree Hotel, Catalina II Room, 3050 Bristol Street, Costa Mesa, CA 92626.

3. Pendleton, Oregon: City Council Chambers, Pendleton City Hall, 500 Southwest Dorian Avenue, Pendleton, OR 97801.

4. Ft. Lauderdale, Florida: Doubletree Oceanfront Hotel, 440 Seabreeze Blvd, Fort Lauderdale, FL 33316.

5. Salem, Massachusetts: National Park Service Visitor Center—Auditorium, 2 New Liberty Street, Salem, MA 01970.

FRA Docket Clerk: Docket Clerk, Office of Chief Counsel, Mail Stop 10, FRA, 1120 Vermont Avenue, NW, Washington, DC 20590. E-mail address for the FRA Docket Clerk is renee.bridgers@fra.dot.gov.

FOR FURTHER INFORMATION CONTACT: Ron Ries, Office of Safety, FRA, 1120 Vermont Avenue, SW., Washington, DC 20590 (telephone: 202-493-6299); or Mark Tessler, Office of Chief Counsel, FRA, 1120 Vermont Avenue, SW., Washington, DC 20590 (telephone: 202-493-6038).

SUPPLEMENTARY INFORMATION: Any person wishing to provide testimony at one of the public hearings should notify FRA's Docket Clerk at the address above at least three working days prior to the date of the hearing. The notification should also provide either a telephone number or e-mail address at which the person may be contacted. If a participant will be representing an organization, please indicate that name of the organization.

FRA will attempt to accommodate all persons wishing to provide testimony, however depending on the number of people wishing to participate, FRA may find it necessary to limit the length of oral comments to accommodate as many people as possible. Participants may wish to submit a complete written statement for inclusion in the record, while orally summarizing the points made in that statement.

Issued in Washington, DC, on February 11, 2000.
S. Mark Lindsey,
Acting Deputy Administrator, Federal Railroad Administration.

[FR Doc. 00-3653 Filed 2-14-00; 8:45 am]

BILLING CODE 4910-06-M